DEPARTMENT OF THE INTERIOR

National Park Service

[NPS-WASO-NAGPRA-NPS0040324; PPWOCRADN0-PCU00RP14.R50000]

Notice of Intended Repatriation: County of Sacramento, Sacramento, CA

AGENCY: National Park Service, Interior.

ACTION: Notice.

SUMMARY: In accordance with the Native American Graves Protection and Repatriation Act (NAGPRA), the County of Sacramento intends to repatriate certain cultural items that meet the definition of objects of cultural patrimony and that have a cultural affiliation with the Indian Tribes or Native Hawaiian organizations in this notice.

DATES: Repatriation of the cultural items in this notice may occur on or after July 11, 2025.

ADDRESSES: Send additional, written requests for repatriation of the cultural items in this notice to Candise Vogel, County Archaeologist, Sacramento County Office of Planning and Environmental Review, 827 7th Street #225, Sacramento, CA 95814, email vogelca@saccounty.gov.

SUPPLEMENTARY INFORMATION: This notice is published as part of the National Park Service's administrative responsibilities under NAGPRA. The determinations in this notice are the sole responsibility of the County of Sacramento and additional information on the determinations in this notice, including the results of consultation, can be found in the summary or related records. The National Park Service is not responsible for the determinations in this notice.

Abstract of Information Available

A total of 41 cultural items have been requested for repatriation from CA-SAC-422 located in Sacramento County, CA. The 41 objects of cultural patrimony are identified as 10 baked clay, seven faunal and floral materials, 20 flaked stone, two worked stone, two historic materials. The site was test excavated in 1992 for the County of Sacramento. These items were collected during site testing by PAR Environmental Services Inc. in 1992.

A total of eight cultural items have been requested for repatriation from CA-SAC-952 located in Sacramento County, CA. The eight objects of cultural patrimony are identified as six flaked stones, one ground stone fragment and one faunal remain. These items were collected during site testing by PAR Environmental Services Inc. in 2006.

Determinations

The County of Sacramento has determined that:

• The 49 objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Wilton Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 11, 2025. If competing requests for repatriation are received, the County of Sacramento must determine the most appropriate requestor prior to repatriation. Requests for joint repatriation of the cultural items are considered a single request and not competing requests. The County of Sacramento is responsible for sending a copy of this notice to the Indian Tribes and Native Hawaiian organizations identified in this notice and to any other consulting parties.

Authority: Native American Graves Protection and Repatriation Act, 25 U.S.C. 3004 and the implementing regulations, 43 CFR 10.9.

Dated: May 28, 2025.
Melanie O'Brien,
Manager, National NAGPRA Program.

[FR Doc. 2025-10594 Filed 6-10-25; 8:45 am]

BILLING CODE 4312-52-P